FEDERAL COMMUNICATIONS COMMISSION

Notice of Public Information Collection(s) Being Reviewed by the Federal Communications Commission, Comments Requested

May 10, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before July 23, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0206.

Title: Part 21, Multipoint Distribution Service Stations.

Form No.: N/A.

Type of Review: Extension of a currently approved collection.

Respondents: Business or other for-profit.

Number of Respondents: 15,858.

Estimated Time per Response: .083—6 hours.

Frequency of Response: On occasion and annual reporting requirements, third party disclosure requirement, and recordkeeping requirement.

Total Annual Burden: 10,221 hours.

Total Annual Cost: $1,244,300.

Privacy Act Impact Assessment: N/A.

Needs and Uses: The information requested in part 21 is used by the Commission staff to fulfill its obligations as set forth in sections 308 and 309 of the Communications Act of 1934, as amended. The information is used to determine the technical, legal and other qualifications of applicants to operate a station in MDS services. The information is also used to determine whether grant of an application will serve the public interest, convenience and necessity, as required by section 309 of the Communications Act. The FCC staff uses the information to ensure that applicants and licensees comply with the ownership and transfer restrictions imposed by section 310 of the Act. The increase in public costs is due to an estimated increase in the various requirements of part 21.

OMB Control Number: 3060-0360.

Title: Section 80.409(c), Public Coast Station Logs.

Form No.: N/A.

Type of Review: Extension of a currently approved collection.

Respondents: Business or other for-profit, not-for-profit institutions, and State, local or tribal government.

Number of Respondents: 316.

Estimated Time per Response: 95 hours.

Frequency of Response: Recordkeeping requirement.

Total Annual Burden: 30,020 hours.

Total Annual Cost: N/A.

Privacy Act Impact Assessment: N/A.

Needs and Uses: The recordkeeping requirement contained in 47 CFR 80.409(c) is necessary to document the operation and public correspondence service of public coast radiotelegraph, public coast radiotelephone stations, and Alaska-public fixed stations, including the logging of distress and safety calls where applicable. A retention period of more than one year is required where a log involves communications relating to a disaster, an investigation, or any claim or complaint. The Commission uses this information to ensure compliance with applicable rules and to assist in accident investigations.

OMB Control Number: 3060-0364.

Title: Section 80.409(d) and (e), Ship Radiotelegraph Logs.

Form No.: N/A.

Type of Review: Extension of a currently approved collection.

Respondents: Business or other for-profit, not-for-profit institutions, and State, local or tribal government.

Number of Respondents: 10,950.

Estimated Time per Response: 47.3 hours.

Frequency of Response: Recordkeeping requirement.

Total Annual Burden: 517,935 hours.

Total Annual Cost: N/A.

Privacy Act Impact Assessment: N/A.

Needs and Uses: The recordkeeping requirement in 47 CFR 80.409 (d) and (e) is necessary to document that compulsory radio equipped vessels and high seas vessels maintain listening watches and logs as required by statutes and treaties (including treaty requirements contained in Appendix 11 of the International Radio Regulations, Chapter IV, Regulation 19 of the International Convention for the Safety of Life at Sea, The Bridge-to-Bridge Radiotelephone Act, the Great Lakes Agreement, and the Communications Act). A retention period of more than one year is required when a log involves communications relating to a disaster, an investigation, any claim, or complaint. The FCC uses this information during inspections and investigations to insure compliance with applicable rules and treaties and to assist in vessel distress and disaster investigations. Foreign governments may use this information for similar purposes when a vessel is operating in their territorial waters.

Federal Communications Commission.
Marlene H. Dortch,
Secretary.

[FR Doc. 04-11658 Filed 5-21-04; 8:45 am]

BILLING CODE 6712-01-P